DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed information collections, as required by the Paperwork Reduction Act of 1995, Public Law No. 104-13 (44 U.S.C. 3506(c)(2)(A)). Currently, the Community Development Financial Institutions Fund (the CDFI Fund), an office within the Department of the Treasury, is soliciting comments concerning the Bank Enterprise Award (BEA) Program Awardee Reporting Form.

DATES: Written comments should be received on or before March 8, 2010 to be assured of consideration.

ADDRESSES: Direct all comments to Jodie Harris, Associate Program Manager, Community Development Financial Institutions Fund, U.S. Department of the Treasury, 601 13th Street, NW., Suite 200 South, Washington, DC 20005, by e-mail to cdfihelp@cdfi.treas.gov or by facsimile to (202) 622-7754. Please note that this is not a toll free number.

FOR FURTHER INFORMATION CONTACT: The BEA Program Awardee Reporting Form may be obtained from the BEA Program page of the CDFI Fund's Web site at http://www.cdfifund.gov. Requests for additional information should be directed to Jodie Harris, Associate Program Manager, Community Development Financial Institutions Fund, U.S. Department of the Treasury, 601 13th Street, NW., Suite 200 South, Washington, DC 20005, or call (202) 622-6355. Please note that this is not a toll free number.

SUPPLEMENTARY INFORMATION: Title: Bank Enterprise Award (BEA) Program Awardee Reporting Form.

Abstract: The purpose of the BEA Program is to provide an incentive to insured depository institutions to increase their activities in the form of loans, investments, services, and technical assistance within distressed communities and provide financial assistance to community development financial institutions through grants, stock purchases, loans, deposits, and other forms of financial and technical assistance. Applicants submit applications and are evaluated in accordance with statutory and regulatory requirements (12 CFR part 1806). Beginning in the FY 2009 funding round, the CDFI Fund will require BEA awardees to use an amount equivalent to the BEA Award amount for BEA Qualified Activities, as defined in the BEA Program regulations. Awardees with awards over $50,000 will be required to report to the CDFI Fund on these Qualified Activities.

Current Actions: New collection.

Type of Review: Regular Review.

Affected Public: Insured depository institutions that receive a BEA Program award.

Estimated Number of Respondents: 40.

Estimated Annual Time per Respondent: 1 hour.

Estimated Total Annual Burden Hours: 40 hours.

Requests for Comments: Comments submitted in response to this notice will be summarized and/or included in the request for Office of Management and Budget approval. All comments will become a matter of public record and will be published on the CDFI Fund Web site at http://www.cdfifund.gov. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services to provide information.

An agency may not conduct or sponsor, and a person is not required to respond to, a collection of information unless the collections of information displays a valid OMB control number.

Authority: 12 U.S.C. 1834a, 4703, 4713, 4717; 12 CFR part 1806.

Dated: December 28, 2009.
Donna J. Gambrell,
Director, Community Development Financial Institutions Fund.

[FR Doc. E9-31332 Filed 1-4-10; 8:45 am]

BILLING CODE 4810-70-P